DEPARTMENT OF STATE

[Public Notice: 11577]

Notice of Renewal of the Charter of the Department of State's Advisory Committee on Private International Law

The Department of State has renewed the Charter of the Advisory Committee on Private International Law for two more years. Through the Committee, the Department of State obtains the views of the public with respect to significant private international law issues that arise in international organizations of which the United States is a Member State, in international bodies in whose work the United States has an interest, or in the foreign relations of the United States.

The Committee is comprised of representatives from other government agencies, representatives of national organizations, and experts and professionals active in the field of international law.

Comments should be sent to the Office of the Assistant Legal Adviser for Private International Law at PIL@state.gov. Copies of the Charter may be obtained by contacting Tricia Smeltzer at smeltzertk@state.gov or found online at https://www.facadatabase.gov/FACA/FACAPublicPage.

Kevin E. Bryant,
Deputy Director, Office of Directives Management, Department of State.

[FR Doc. 2021-24641 Filed 11-10-21; 8:45 am]

BILLING CODE 4710-08-P